NUCLEAR REGULATORY COMMISSION

[Docket No. 50-397]

Energy Northwest; Notice of Consideration of Issuance of Amendment to Facility Operating License, Proposed No Significant Hazards Consideration Determination, and Opportunity for a Hearing

The U.S. Nuclear Regulatory Commission (the Commission) is considering issuance of an amendment to Facility Operating License No. NPF-21, issued to Energy Northwest (the licensee), for operation of the Columbia Generating Station located in Benton County, Washington.

The proposed amendment would change Technical Specification (TS) Surveillance Requirement (SR) 3.6.1.3.6 to add a modifying footnote to the verification requirements for main steam isolation valve (MSIV) isolation times to specify that the isolation time of each MSIV includes circuit response time and to require verification that isolation of all of the main steam lines can be completed within the limits specified in SR 3.6.1.3.6.

On March 21, 2002, Energy Northwest requested enforcement discretion from compliance with Required Action A of Limiting Condition for Operation (LCO) 3.6.1.3 because two inboard MSIVs were declared inoperable due to failure to meet SR 3.6.1.3.6. Compliance with the LCO action would have required isolation of two main steam lines necessitating a plant shutdown. The SR for MSIVs was previously thought to be met and each MSIV operable. The discovery that circuit response time should not be included in MSIV isolation time regarding the three-second time limit portion of SR 3.6.1.3.6, resulted in two MSIVs being technically inoperable. The staff issued the Notice of Enforcement Discretion (NOED) on March 26, 2002. The exigent technical specification amendment request will preclude the need for continued enforcement discretion.

Before issuance of the proposed license amendment, the Commission will have made findings required by the Atomic Energy Act of 1954, as amended (the Act) and the Commission's regulations.

Pursuant to 10 CFR 50.91(a)(6) for amendments to be granted under exigent circumstances, the NRC staff must determine that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

The proposed change does not involve a significant increase in the probability or consequences of an accident previously evaluated.

The MSIV closure transient is discussed in FSAR [Final Safety Analysis Report] section 15.2.4. The sequence of events for this transient is given in FSAR Table 15.2-5 that assumes a time of 3.0 sec for all MSIVs to be closed. A review was performed of the Cycle 16 analysis, which modeled the four sets of MSIVs (two valves per steam line) collectively as a single orifice that transitions from full open to full closed in 3 seconds (includes valve motion time only). The overpressurization event occurs as a result of the pressure wave reflected back to the reactor pressure vessel by rapid MSIV closure. When analyzing the specific closure times from the last MSIV isolation time surveillances, performed on February 18 and February 22, 2002, it was determined that although two steam lines would be isolated in less than 3 seconds, the two remaining steam lines would be isolated in greater than 3 seconds. Averaging of the limiting (fastest) time for each of the four main steam lines yields an average valve motion time of 3.12 seconds. This average time is within the bounds of the analysis assumptions. There is no affect on the probability of a previously evaluated accident because two main steam lines isolating at the slightly faster time does not alter any event sequence considered in the accident analysis.

Therefore, this request for amendment does not involve a significant increase in the probability or consequences of the MSIV closure accident previously evaluated.

The proposed change does not create the possibility of a new or different kind of accident from any accident previously evaluated.

The proposed amendment will not change the design function or operation of the MSIVs involved. There are no credible new failure mechanisms, malfunctions, or accident initiators associated with this change that are not considered in the design and licensing bases. The safety function of the MSIVs is to mitigate release of radioactive material. The proposed amendment does not create the possibility of a new or different kind of accident from any accident previously evaluated.

The proposed change does not involve a significant reduction in the margin of safety.

Qualitative Risk Assessment

Analysis by Columbia Generating Station has determined that the current MSIV isolation times will not result in exceeding MCPR [minimum critical power ratio] or ASME vessel protection limits. Therefore, there is no adverse affect on any station equipment. Accordingly, implementing the requested amendment to Technical Specifications would not affect the baseline core damage probability.

Since the average of the measured limiting (fastest) isolation times for the MSIVs remain bounded by the Cycle 16 Licensing analysis there is no condition that would present a challenge to thermal limits, and thus, fuel failures. Also, since margin to the ASME overpressure limit is still maintained, protection of the RPV is not diminished. Therefore, there can be no increased risk to the public health and safety.

Other relevant analyses indicate that for closure times of 2 seconds or greater the impact on MCPR and vessel pressure is insignificant and will not challenge safety limits. The measured valve motion times of 2.74 seconds and 2.88 seconds are well above this value. Further, the average MSIV valve motion time of 3.12 seconds shows that the overall plant response with the current configuration is well within the bounds of the analysis. Therefore, this amendment request does not involve a significant reduction in the margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 14 days after the date of publication of this notice will be considered in making any final determination.

Normally, the Commission will not issue the amendment until the expiration of the 14-day notice period. However, should circumstances change during the notice period, such that failure to act in a timely way would result, for example, in derating or shutdown of the facility, the Commission may issue the license amendment before the expiration of the 14-day notice period, provided that its final determination is that the amendment involves no significant hazards consideration. The final determination will consider all public and State comments received. Should the Commission take this action, it will publish in the Federal Register a notice of issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Documents may be examined, and/or copied for a fee, at the NRC's Public Document Room, located at One White Flint North, 11555 Rockville Pike (first floor), Rockville, Maryland.

The filing of requests for hearing and petitions for leave to intervene is discussed below.

By May 8, 2002, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.714, which is available at the Commission's Public Document Room, located at One White Flint North, 11555 Rockville Pike (first floor), Rockville, Maryland, and available electronically on the Internet at the NRC Web site http://www.nrc.gov/reading-rm/doc-collections/cfr/. If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made a party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If the amendment is issued before the expiration of the 30-day hearing period, the Commission will make a final determination on the issue of no significant hazards consideration. If a hearing is requested, the final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, located at One White Flint North, 11555 Rockville Pike (first floor), Rockville, Maryland, by the above date. A copy of the petition should also be sent to the Office of the General Counsel, U.S. Nuclear Regulatory Commission, Washington, DC 20555-0001, and to Thomas C. Poindexter, Esq., Winston & Strawn, 1400 L Street, NW., Washington, DC 20005-3502, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated March 22, 2002, as supplemented by letter dated March 28, 2002, which is available for public inspection at the Commission's Public Document Room (PDR), located at One White Flint North, 11555 Rockville Pike (first floor), Rockville, Maryland. Publicly available records will be accessible electronically from the Agencywide Documents Access and Management System (ADAMS) Public Electronic Reading Room on the Internet at the NRC Web site http://www.nrc.gov/reading-rm/adams.html. Persons who do not have access to ADAMS or who encounter problems in accessing the documents located in ADAMS, should contact the NRC PDR Reference staff by telephone at 1-800-397-4209, 301-415-4737 or by e-mail to pdr@nrc.gov.

Dated at Rockville, Maryland, this 2nd day of April 2002.
For the Nuclear Regulatory Commission.
John Hickman,
Project Manager, Section 2, Project Directorate IV, Division of Licensing Project Management, Office of Nuclear Reactor Regulation.

[FR Doc. 02-8388 Filed 4-5-02; 8:45 am]

BILLING CODE 7590-01-P